DEPARTMENT OF ENERGY

Federal Energy Regulatory Commission

[Docket No. CP01-87-000]

Dominion Transmission, Inc.; Notice of Application

February 26, 2001.

Take notice that on February 13, 2001, Dominion Transmission, Inc. (Dominion), 445 West Main Street, Clarksburg, West Virginia 26301, filed a request with the Commission in Docket No. CP01-87-000 pursuant to Section 7(c) of the Natural Gas Act (NGA) for authorization to expand the active pool boundary of its Fink-Kennedy/Lost Creek Storage Reservoir, centered around the Buck Run area in Lewis County, West Virginia, in the northwestern portion of the Fink Reservoir, all as more fully set forth in the application which is open to the public for inspection. This application may be viewed on the web at http://www.ferc.fed.us/online/rims.htm (call 202-208-2222 for assistance).

Dominion proposes to expand the northwestern active boundary of the Fink Reservoir by approximately 3,063 acres in the Buck Run area. Dominion states that the subject area has a high potential for migration of storage gas to the area outside the currently certificated reservoir boundary,¹ due either to the production of storage gas by outside operators, the production of oil, or both. According to Dominion, the pending application does not seek to change either the capacity or deliverability of the storage field, nor are there any new facilities associated with the application. Dominion states that it does not expect the acquisition costs of obtaining the additional necessary storage leases to exceed $1,211,000. Dominion states that requested certification will permit it to protect the integrity of the storage reservoir and to reduce or eliminate gas losses that may be associated with outside production in the Buck Run area.

¹ The reservoir boundary as currently drawn was certificated in 1956. See, Hope Natural Gas Co., 16 FPC 955 (1956).

Any person desiring to be heard or to make any protest with reference to said application should on or before March 19, 2001, file with the Federal Energy Regulatory Commission, 888 First Street, NE., Washington, DC 20426, a motion to intervene or a protest in accordance with the requirements of the Commission's Rules of Practice and Procedure (18 CFR 385.214 or 385.211) and the Regulations under the NGA (18 CFR 157.10). All protests filed with the Commission will be considered by it in determining the appropriate action to be taken but will not serve to make the protestants parties to the proceeding. Any person wishing to become a party to a proceeding or to participate as a party in any hearing therein must file a motion to intervene in accordance with the Commission's Rules. Any questions regarding the application should be directed to Sean R. Sleigh, Certificates Manager, Dominion Transmission, Inc., 445 West Main Street, Clarksburg, West Virginia 26301, telephone (304) 627-3462.

Comments and protests may be filed electronically via the internet in lieu of paper. See, 18 CFR 385.2001(a)(1)(iii) and the instructions on the Commission's web site at http://www.ferc.fed.us/efi/doorbell.htm.

A person obtaining intervenor status will be placed on the service list maintained by the Secretary of the Commission and will receive copies of all documents filed by the applicant and by everyone of the intervenors. An intervenor can file for rehearing of any Commission order and can petition for court review of any such order. However, an intervenor must submit copies of comments or any filing it makes with the Commission to every other intervenor in the proceeding, as well as 14 copies with the Commission.

A person does not have to intervene, however, in order to have comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order at a federal court.

The Commission will consider all comments and concerns equally, whether filed by commenters or those requesting intervenor status.

Take further notice that, pursuant to the authority contained in and subject to the jurisdiction conferred upon the Federal Regulatory Commission by Sections 7 and 15 of the NGA and the Commission's Rules of Practice and Procedure, a hearing will be held without further notice before the Commission or its designee on this application if no motion to intervene is filed within the time required herein, if the Commission on its own review of the matter finds that the proposal is required by the public convenience and necessity. If a motion for leave to intervene is timely filed, or if the Commission on its own motion believes that a formal hearing is required, further notice of such hearing will be duly given.

Under the procedure herein provided for, unless otherwise advised, it will be unnecessary for Dominion to appear or be represented at the hearing.

David P. Boergers,
Secretary.

[FR Doc. 01-5095 Filed 3-1-01; 8:45 am]

BILLING CODE 6717-01-M